DEPARTMENT OF THE INTERIOR

Office of the Secretary

Notice of Proposed Information Collection

AGENCY: Office of the Secretary, Office of Acquisition and Property Management.

ACTION: Notice and request for comments.

SUMMARY: A proposal to extend the collection of information listed below (OMB Control Number 1084-0033) has been submitted to the Office of Management and Budget (OMB) for approval under the provisions of the Paperwork Reduction Act (44 U.S.C. Chapter 35). Public comments on this submission are solicited.

DATES: OMB has up to 60 days to approve or disapprove the information collection, but may respond after 30 days. Therefore, public comments should be submitted to OMB by May 24, 2007, in order to be assured of consideration.

ADDRESSES: Send your written comments to the Office of Management and Budget, Office of Information and Regulatory Affairs, Attention, Department of the Interior Desk Officer, by fax to 202-395-6566, or by e-mail to oira_docket@omb.eop.gov. Please send a copy of your written comments to the Office of the Secretary Information Collection Clearance Officer, Sue Ellen Sloca, 1951 Constitution Avenue, NW., MS 120 SIB, Washington, DC 20240, or via e-mail to sue_ellen_sloca@nbc.gov. Individuals providing comments should reference OMB control number 1084-0033, “Private Rental Survey.”

FOR FURTHER INFORMATION CONTACT: To request more information on this proposed information collection or to obtain a copy of the proposal and associated collection instrument, please write to the above address, or call Michael C. Wright on 202-208-5399, write Michael C. Wright at Mail Stop 2607, 1849 C Street, NW., Washington, DC 20240, or e-mail him on Michael_ C_Wright@ios.doi.gov.

SUPPLEMENTARY INFORMATION:

I. Abstract

Office of Management and Budget (OMB) regulations at 5 CFR part 1320, which implement the Paperwork Reduction Act of 1995 (Pub. L. 104-13), require that interested members of the public and affected agencies have an opportunity to comment on information collection and recordkeeping activities (see 5 CFR 1320.8 (d)). This notice identifies an existing information collection activity that the Office of the Secretary has submitted to OMB for extension.

Public Law 88-459 authorizes Federal agencies to provide housing for Government employees under specified circumstances. In compliance with OMB Circular A-45 (Revised), Rental and Construction of Government Quarters, a review of private rental market housing rates is required at least once every 5 years to ensure that the rental, utility charges, and charges for related services to occupants of Government Furnished Quarters (GFQ) are comparable to corresponding charges in the private sector. To avoid unnecessary duplication and inconsistent rental rates, the Office of Acquisition and Property Management (PAM) conducts housing surveys in support of quarters management programs for the Departments of the Interior (DOI), Agriculture, Commerce, Defense, Homeland Security, Justice, Transportation, Treasury, Health and Human Services, and Veterans Affairs. In this survey, two collection forms are used: OS-2000, covering “Houses—Apartments—Mobile Homes” and OS-2001, covering “Trailer Spaces.”

This collection of information provides data that helps DOI and the other Federal agencies to manage GFQ within the requirements of OMB Circular A-45 (Revised.) If this information were not collected from the public, DOI and the other Federal agencies required to provide GFQ would have no objective basis for determining open market rental costs for GFQ.

II. Data

(1) Title: Private Rental Survey.

OMB Control Number: 1084-0033.

Current Expiration Date: 04/30/2007.

Type of Review: Information Collection: Renewal.

Affected Entities: About 178 individuals or households, and 4212 businesses and other for-profit institutions.

Estimated annual number of responses:

OS-2000: 4,090.

OS-2001: 300.

Total: 4,390.

Frequency of response: Ranges from 1 to 2.1 per respondent per year, on the average.

Note: Each of 15 regions is surveyed every 4th year, with 3-4 regions being surveyed each year.

(2) Annual reporting and record keeping burden.

Estimated burden per response:

OS-2000: 12 minutes.

OS-2001: 10 minutes.

Total annual reporting:

OS-2000: 818 hours.

OS-2001: 50 hours.

Total: 868 hours.

(3) Description of the need and use of the information: This information collection provides the data that enables DOI to determine open market rental costs for GFQ. These rates, in turn, enable DOI and other Federal agencies to manage GFQ within the requirements of OMB Circular A-45 (Revised.)

III. Request for Comments

An initial opportunity for the public to comment on the Office of the Secretary's proposal to extend this information collection was announced in the Federal Register on December 13, 2006. The Office of the Secretary received no comments in response to its 60-day notice and request for comments. The public now has a second opportunity to comment on this proposal.

The Department of the Interior invites comments on:

(a) Whether the collection of information is necessary for the proper performance of the functions of the agency, including whether the information will have practical utility;

(b) The accuracy of the agency's estimate of the burden of the collection and the validity of the methodology and assumptions used;

(c) Ways to enhance the quality, utility, and clarity of the information to be collected; and

(d) Ways to minimize the burden of the collection of information on those who are to respond, including through the use of appropriate automated, electronic, mechanical, or other collection techniques or other forms of information technology.

Burden means the total time, effort, or financial resources expended by persons to generate, maintain, retain, disclose or provide information to or for a federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

An agency may not conduct or sponsor, and a person is not required to respond to, a collection of information unless it displays a currently valid Office of Management and Budget control number.

Dated: April 17, 2007.
Debra E. Sonderman,
Director, Office of Acquisition and Property Management.

[FR Doc. E7-7707 Filed 4-23-07; 8:45 am]

BILLING CODE 4310-RK-P